DEPARTMENT OF COMMERCE

National Oceanic and Atmospheric Administration

[RTID 0648-XE718]

Marine Mammals; File No. 28850

AGENCY: National Marine Fisheries Service (NMFS), National Oceanic and Atmospheric Administration (NOAA), Commerce.

ACTION: Notice; receipt of application.

SUMMARY: Notice is hereby given that Cascadia Research Collective (Responsible Party: John Calambokidis), 218½ West Fourth Avenue, Olympia, Washington 98501, has applied in due form for a permit to conduct on marine mammals.

DATES: Written comments must be received on or before May 29, 2025.

ADDRESSES: The application and related documents are available for review by selecting “Records Open for Public Comment” from the “Features” box on the Applications and Permits for Protected Species home page, https://apps.nmfs.noaa.gov, and then selecting File No. 28850 from the list of available applications. These documents are also available upon written request via email to NMFS.Pr1Comments@noaa.gov.

Written comments on this application should be submitted via email to NMFS.Pr1Comments@noaa.gov. Please include File No. 28850 in the subject line of the email comment.

Those individuals requesting a public hearing should submit a written request via email to NMFS.Pr1Comments@noaa.gov. The request should set forth the specific reasons why a hearing on this application would be appropriate.

FOR FURTHER INFORMATION CONTACT: Courtney Smith, Ph.D., or Shasta McClenahan, Ph.D., (301) 427-8401.

SUPPLEMENTARY INFORMATION: The subject permit is requested under the authority of the Marine Mammal Protection Act of 1972, as amended (16 U.S.C. 1361 et seq.), the regulations governing the taking and importing of marine mammals (50 CFR part 216), the Endangered Species Act of 1973, as amended (16 U.S.C. 1531 et seq.), the regulations governing the taking, importing, and exporting of endangered and threatened species (50 CFR parts 222-226), and the Fur Seal Act of 1966, as amended (16 U.S.C. 1151 et seq.).

The applicant requests a 10-year permit to take marine mammals in the North Pacific Ocean to study distribution, abundance, long-term trends, movements, population structure, body condition, health, ecology, behavior, and impact of human activities. Up to 32 species of marine mammals may be targeted for research including the following ESA-listed species: blue (Balaenoptera musculus), fin (Balaenoptera physalus), gray (Eschrichtius robustus; Western North Pacific distinct population segment [DPS]), humpback (Megaptera novaeangliae; Western North Pacific, Mexico, and Central America DPSs), killer (Orcinus orca; Southern Resident DPS), North Pacific right (Eubalaena japonica), sei (Balaenoptera borealis), and sperm (Physeter macrocephalus) whales; Guadalupe fur seals (Arctocephalus townsendi) and Steller sea lions (Eumetopias jubatus). Research would include vessel and aerial surveys (manned and unmanned) for counts, passive acoustic recording, observations, photo-identification, photogrammetry, thermal imaging, video recording, echosounders for prey mapping, biological sampling (sloughed skin, exhaled air, feces, prey remains, skin and blubber biopsy), and tagging (suction-cup and dart). Biological samples may be imported and exported for analysis. See the application for numbers of animals requested by species and procedure.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: April 23, 2025.
Julia M. Harrison,
Chief, Permits and Conservation Division, Office of Protected Resources, National Marine Fisheries Service.

[FR Doc. 2025-07329 Filed 4-28-25; 8:45 am]

BILLING CODE 3510-22-P